DEPARTMENT OF HEALTH AND HUMAN SERVICES

Health Resources and Services Administration

Agency Information Collection Activities: Proposed Collection: Comment Request

In compliance with the requirement for opportunity for public comment on proposed data collection projects (Paperwork Reduction Act of 1995, as amended, 44 U.S.C. Chapter 35), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Telephone Survey of Public Opinion Regarding Various Issues Related to Organ and Tissue Donation (NEW)

The Division of Transplantation (DoT), Special Programs Bureau (SPB), Health Resources and Services Administration (HRSA), is planning to conduct a telephone survey of public knowledge, perceptions, opinion, and behaviors related to organ donation. Two key missions of the DoT are (1) to provide oversight for the Organ Procurement and Transplantation Network and policy development related to organ donation and transplantation and (2) to implement efforts to increase public knowledge, attitudes, and behaviors related to organ and tissue donation. With a constantly growing deficit between the number of Americans needing donor organs, (currently exceeding 83,000) and the annual number of donors (12,795 in 2002), increasing the American public's willingness to donate becomes increasingly critical. Effective education campaigns need to be based on knowledge of the public's attitudes and perceptions about, and perceived impediments to, organ donation. The last national survey of public attitudes and perceptions of organ donation was conducted in 1993.

The purpose of this study is to obtain current information on public attitudes and perceptions of organ donation and transplantation of the general public and various population subgroups. The survey will measure issues such as level of public knowledge about donation, public intent to donate, impediments to public intent to donate, living donation, presumed consent, and financial incentives for donation. Demographic information also will be collected. The sample will consist of 2,500 adults, will oversample Asian, Hispanic, and African Americans, and will be geographically representative of the United States. Computer-assisted telephone interviews will be conducted in the English, Spanish, and Mandarin languages. The survey will replicate a number of questions asked in the 1993 survey and also will include new items, some of which will ask about untried methods to increase donation. In addition to being useful to the DoT, results of this survey also will be of considerable assistance to the transplant community and to the Secretary's Advisory Committee on Organ Transplantation (ACOT) as it fulfills its charge to advise the Secretary of Health and Human Services on the numerous and often controversial issues related to donation and transplantation. In its first meeting, the ACOT suggested such a survey to gather information to inform both public education efforts and policy decisions on the issue of organ donation.

The estimated burden is as follows:

| Number of respondents | Annual frequency per response | Total annual responses | Hours per response | Total burden hours
Telephone Survey | 2,500 | 1 | 2,500 | .2 | 500
Total | 2,500 |  | 2,500 |  | 500

Send comments to Susan G. Queen, Ph.D., HRSA Reports Clearance Officer, Room 14-45, Parklawn Building, 5600 Fishers Lane, Rockville, MD 20857. Written comments should be received within 60 days of this notice.

Dated: January 16, 2004.
Tina M. Cheatham,
Acting Director, Division of Policy Review and Coordination.

[FR Doc. 04-1383 Filed 1-22-04; 8:45 am]

BILLING CODE 4165-15-P